DEPARTMENT OF HOMELAND SECURITY

Federal Emergency Management Agency

44 CFR Part 65

[Docket ID FEMA-2008-0020; Internal Agency Docket No. FEMA-B-1044]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Pinal | City of Casa Grande (08-09-1919P) | February 20, 2009; February 27, 2009; Casa Grande Dispatch | The Honorable Robert M. Jackson, Mayor, City of Casa Grande, 510 East Florence Boulevard, Casa Grande, AZ 85222 | February 10, 2009 | 040080
California:
San Bernardino | Town of Apple Valley (08-09-1552P) | February 13, 2009; February 20, 2009; Apple Valley News | The Honorable Mark Shoup, Mayor, City of Apple Valley, 14955 Dale Evans Parkway, Apple Valley, CA 92307 | June 19, 2009 | 060752
San Bernardino | City of Hesperia (08-09-1552P) | February 12, 2009; February 19, 2009; Hesperia Resorter | The Honorable Tad Honeycutt, Mayor, City of Hesperia, 9700 Seventh Avenue, Hesperia, CA 92345 | June 19, 2009 | 060733
San Bernardino | Unincorporated areas of San Bernardino County (08-09-1552P) | February 13, 2009; February 20, 2009; San Bernardino Bulletin | The Honorable Paul Biane, Chairman, San Bernardino County Board of Supervisors, 385 North Arrowhead Avenue, Fifth Floor, San Bernardino, CA 92415-0110 | June 19, 2009 | 060270
Georgia: Gwinnett | Unincorporated areas of Gwinnett County (08-04-6361P) | January 2, 2009; January 9, 2009; Gwinnett Daily Post | The Honorable Charles E. Bannister, Chairman, Gwinnett County Board of Commissioners, 75 Langley Drive, Lawrenceville, GA 30045 | May 11, 2009 | 130322
Indiana: Hamilton | City of Carmel (08-05-5476P) | February 26, 2009; March 5, 2009; Noblesville Ledger | The Honorable James Brainard, Mayor, City of Carmel, One Civic Square, Carmel, IN 46032 | July 6, 2009 | 180081
Kentucky: Louisville-Jefferson | Louisville-Jefferson County Metropolitan Government (08-04-3793P) | November 14, 2008; November 21, 2008; The Courier Journal | The Honorable Jerry E. Abramson, Mayor, Louisville-Jefferson County Metropolitan Government, 527 West Jefferson Street, Louisville, KY 40202 | March 23, 2009 | 210120
Nevada: Clark | Unincorporated areas of Clark County (09-09-0318) | February 20, 2009; February 27, 2009; Las Vegas Review Journal | The Honorable Rory Reid, Chair, Clark County Board of Commissioners, 500 South Grand Central Parkway, Las Vegas, NV 89106 | June 29, 2009 | 320003
North Carolina: Edgecombe | Town of Tarboro (08-04-1283P) | February 3, 2009; February 10, 2009; The Daily Southerner | Mr. Samuel W. Noble, Jr., Manager, Town of Tarboro, P.O. Box 220, 500 Main Street, Tarboro, North Carolina 27886-0221 | January 27, 2009 | 370094
Rhode Island: Newport | Town of Portsmouth (09-01-0279P) | February 20, 2009; February 27, 2009; Newport Daily News | The Honorable Dennis Canario, President, Portsmouth Town Council, 64 Birchwood Drive, Portsmouth, RI 02871 | February 9, 2009 | 445405
Tennessee: Nashville and Davidson | Metropolitan Government of Nashville and Davidson County (08-04-5048P) | February 6, 2009; February 13, 2009; The Tennessean | The Honorable Karl Dean, Mayor, Metropolitan Government of Nashville and Davidson County, 100 Metro Courthouse, Nashville, TN 37201 | June 16, 2009 | 470040
Texas:
Webb | City of Laredo (08-06-2454P) | February 6, 2009; February 13, 2009; Laredo Morning Times | The Honorable Raul G. Salinas, Mayor, City of Laredo, 1110 Houston Street, Laredo, TX 78040 | June 15, 2009 | 480651
Webb | Unincorporated areas of Webb County (08-06-2740P) | February 6, 2009; February 13, 2009; Laredo Morning Times | The Honorable Danny Valdez, Webb County Judge, Webb County Courthouse, 1000 Houston Street, Third Floor, Laredo, TX 78040 | June 15, 2009 | 481059
Utah:
Salt Lake | City of Riverton (08-08-0716P) | February 12, 2009; February 19, 2009; Salt Lake Tribune | The Honorable Bill Applegarth, Mayor, City of Riverton, 12765 South 1400 West, Riverton, UT 84065 | June 19, 2009 | 490104
Salt Lake | City of South Jordan (08-08-0716P) | February 12, 2009; February 19, 2009; Salt Lake Tribune | The Honorable William Kent Money, Mayor, City of South Jordan, 1600 West Towne Center Drive, South Jordan, UT 84095 | June 19, 2009 | 490107
Washington: Spokane | Unincorporated areas of Spokane County (08-10-0786P) | February 12, 2009; February 19, 2009; Spokesman Review | The Honorable Todd Mielke, Chairman, Spokane County Board of Commissioners, Spokane County Courthouse, Room 300, 1116 West Broadway Avenue, Spokane, WA 99260 | January 30, 2009 | 530174
Wisconsin: Waukesha | Unincorporated areas of Waukesha County (08-05-4338P) | February 12, 2009; February 19, 2009; Waukesha Freeman | The Honorable James T. Dwyer, Chairman, Waukesha County Board of Supervisors, 515 West Moreland Boulevard, Waukesha, WI 53188 | June 19, 2009 | 550476

(Catalog of Federal Domestic Assistance No. 97.022, “Flood Insurance.”)

Dated: March 25, 2009.
Michael K. Buckley,
Acting Assistant Administrator, Mitigation Directorate, Department of Homeland Security, Federal Emergency Management Agency.

[FR Doc. E9-8368 Filed 4-10-09; 8:45 am]

BILLING CODE 9110-12-P